DEPARTMENT OF HEALTH AND HUMAN SERVICES

Centers for Disease Control and Prevention

Disease, Disability, and Injury Prevention and Control Special Emphasis Panel (SEP): Secondary Review

This is to announce the cancelation of a meeting, Research Using Linked Data to Understand Motor Vehicle Injury Among Older Adults, (FOA), CE17-001, and Development and Evaluation of Sports Concussion Prevention Strategies (FOA) CE17-002, secondary review.

SUMMARY: This meeting was announced in the Federal Register on May 15, 2017, Volume 82, Number 92, pages 22335 and 22336. This meeting is canceled in its entirety.

CONTACT PERSON FOR MORE INFORMATION: Gwendolyn H. Cattledge, Ph.D., M.S.E.H., Deputy Associate Director for Science, National Center for Injury Prevention and Control, CDC, 4770 Buford Highway, NE., Mailstop F-63, Atlanta, Georgia 30341, Telephone (770) 488-1430.

The Director, Management Analysis and Services Office, has been delegated the authority to sign Federal Register notices pertaining to announcements of meetings and other committee management activities, for both the Centers for Disease Control and Prevention and the Agency for Toxic Substances and Disease Registry.

Claudette Grant,
Acting Director, Management Analysis and Services Office, Centers for Disease Control and Prevention.

[FR Doc. 2017-11814 Filed 6-6-17; 8:45 am]

BILLING CODE 4163-18-P